DEPARTMENT OF HEALTH AND HUMAN SERVICES

Centers for Disease Control and Prevention

[30Day-16-0234]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Direct written comments and/or suggestions regarding the items contained in this notice to the Attention: CDC Desk Officer, Office of Management and Budget, Washington, DC 20503 or by fax to (202) 395-5806. Written comments Information Collection Request Procedures Manual 35 should be received within 30 days of this notice.

Proposed Project

The National Ambulatory Medical Care Survey (NAMCS), (OMB No. 0920-0234, expires 12/31/2017)—Revision—National Center for Health Statistics (NCHS), Centers for Disease Control and Prevention (CDC).

Background and Brief Description

Section 306 of the Public Health Service (PHS) Act (42 U.S.C. 242k), as amended, authorizes that the Secretary of Health and Human Services, acting through NCHS, shall collect statistics on the utilization of health care provided by non-federal office-based physicians in the United States. On December 19, 2014, the OMB approved data collection for three years from 2015 to 2017. This revision is to request approval to continue NAMCS data collection activities for three years from 2016-2018 and to add questions to the physician interview that pertain to policies, services, and experiences related to the prevention and treatment of sexually transmitted infections (STIs) and HIV prevention among adolescents and others. Small modifications will also be made to questions on the use of electronic health records. This notice also covers a decrease in the sample size resulting from smaller budget allocations and oversampling in previous years. Due to this decrease, selected state estimates will not be available for 2016-2018 data.

The National Ambulatory Medical Care Survey (NAMCS) has been conducted intermittently from 1973 through 1985, and annually since 1989. The purpose of NAMCS, a voluntary survey, is to meet the needs and demands for statistical information about the provision of ambulatory medical care services in the United States. Ambulatory services are rendered in a wide variety of settings, including physicians' offices and hospital outpatient and emergency departments.

The NAMCS target universe consists of all office visits made by ambulatory patients to non-Federal office-based physicians (excluding those in the specialties of anesthesiology, radiology, and pathology) who are engaged in direct patient care. In 2006, physicians and mid-level providers (i.e., nurse practitioners, physician assistants, and nurse midwives) practicing in community health centers (CHCs) were added to the NAMCS sample, and these data will continue to be collected.

To complement NAMCS data, NCHS initiated the National Hospital Ambulatory Medical Care Survey (NHAMCS, OMB No. 0920-0278, expires 02/28/18) in 1992 to provide data concerning patient visits to hospital outpatient and emergency departments. NAMCS and NHAMCS are the principal sources of data on ambulatory care provided in the United States.

There is no cost to the respondents other than their time. Burden hours have seen a net reduction of 19,876 hours since the previously approved package, primarily due to a sample size decrease. Currently, there is not a plan to include state-based estimates in the future, unless funding is increased sufficiently to support oversampling in the states for which state based estimates are desired.

Estimated Annualized Burden Hours
Type of respondents | Form name | Number of respondents | Number of responses per respondent | Average burden per response (in hrs.) | Total burden (in hrs.)
Office-based physicians | Physician Induction Interview (NAMCS-1) | 2,590 | 1 | 45/60 | 1,943
| Patient Record form (NAMCS-30) (Physician abstracts) | 259 | 30 | 14/60 | 1,813
| Prepare and transmit EHR (MU On-Boarding) | 130 | 1 | 1 | 130
| Pulling, re-filing medical record forms (FR abstracts) | 2,201 | 30 | 1/60 | 1,101
Community Health Centers | Induction Interview—service delivery site (NAMCS-201) | 104 | 1 | 30/60 | 52
| Induction Interview—Providers (NAMCS-1) | 234 | 1 | 30/60 | 117
| Patient Record form (NAMCS-30) (Provider abstracts) | 23 | 30 | 14/60 | 161
| Pulling, re-filing medical record forms (FR abstracts) | 211 | 30 | 1/60 | 106
Re-abstraction study | Pulling, re-filing medical record forms (FR abstracts) | 72 | 10 | 1/60 | 12
Total |  |  |  |  | 5,435

Leroy A. Richardson,
Chief, Information Collection Review Office, Office of Scientific Integrity, Office of the Associate Director for Science, Office of the Director, Centers for Disease Control and Prevention.

[FR Doc. 2016-02581 Filed 2-9-16; 8:45 am]

BILLING CODE 4163-18-P